ENVIRONMENTAL PROTECTION AGENCY

[EPA-HQ-OW-2016-0404; FRL-9972-71-OEI]

Submission to OMB for Review and Approval; Comment Request; Information Collection Request for the National Study of Nutrient Removal and Secondary Technologies: Publicly Owned Treatment Works (POTW) Screener Questionnaire

AGENCY: Environmental Protection Agency (EPA).

ACTION: Notice.

SUMMARY: In compliance with the Paperwork Reduction Act (PRA), this document announces that an Information Collection Request (ICR) for a voluntary survey—Information Collection Request for the National Study of Nutrient Removal and Secondary Technologies: Publicly Owned Treatment Works (POTW) Screener Questionnaire, EPA ICR No. 2553.01, OMB Control No. 2040 NEW—has been forwarded to the Office of Management and Budget (OMB) for review and approval. This is a request for a new collection. The ICR, which is abstracted below, describes the nature of the information collection and its estimated burden and cost. An agency may not conduct or sponsor, and a person is not required to respond to, a collection of information unless it displays a currently valid OMB control number.

DATES: Additional comments may be submitted on or before January 29, 2018.

ADDRESSES: Submit your comments, referencing Docket ID No. EPA-HQ-OW-2016-0404 to (1) EPA online using www.regulations.gov (our preferred method), by email to OW-Docket@epa.gov, or by mail to: EPA Docket Center, Environmental Protection Agency, Mail Code 28221T, 1200 Pennsylvania Ave. NW, Washington, DC 20460, and (2) OMB by mail to: Office of Information and Regulatory Affairs, Office of Management and Budget (OMB), Attention: Desk Officer for EPA, 725 17th Street NW, Washington, DC 20503.

Instructions: Direct your comments to Docket ID No. EPA-HQ-OW-2016-0404. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. For additional information about EPA's public docket, visit the EPA Docket Center homepage at http://www.epa.gov/epahome/dockets.htm.

FOR FURTHER INFORMATION CONTACT: Dr. Paul Shriner, Engineering and Analysis Division (4303T), Environmental Protection Agency, 1200 Pennsylvania Ave. NW, Washington, DC 20460; telephone number: 202-566-1076; email address: nutrient-removal-study@epa.gov.

SUPPLEMENTARY INFORMATION: EPA has established a public docket for this ICR under Docket ID No. EPA-HQ-OW-2016-0404, which is available at https://www.regulations.gov, or for in-person viewing at the EPA Docket Center, William J. Clinton West Building, Room 3334, 1301 Constitution Ave. NW, Washington, DC. The Public Reading Room is open from 8:30 a.m. to 4:30 p.m., Monday through Friday, excluding legal holidays. The telephone number for the Public Reading Room is (202) 566-1744, and the telephone number for the Water Docket is (202) 566-2426.

Use https://www.regulations.gov to submit or view public comments, obtain a copy of the collection of information supporting statement, including the screener survey, and to access those documents in the public docket that are available electronically. Once in the system, select “search,” then key in the docket ID number identified in this document.

Abstract: Nutrient pollution (e.g. nitrogen and phosphorus) presents a growing threat to public health and local economies—contributing to toxic harmful algal blooms, contamination of drinking water sources, and costly impacts on recreation, tourism and fisheries. The EPA is collaborating with states to make greater progress in reducing nutrient loadings discharged into the nation's waters from all sources. With this goal in mind, EPA's Office of Water is planning to collect data to evaluate the nutrient removals and related technology performance of publicly owned treatment works (POTWs) with conventional secondary treatment. Currently, there are no comprehensive, nationwide data on nutrient discharges and removals at POTWs. This study will attempt to obtain nationwide data on nutrient removal to help set more realistic and achievable nutrient reduction targets than may be the case absent such data; help POTWs understand the range of opportunities to optimize nutrient removals based on data from their peers, and; encourage improved nutrient removal POTW performance with less expense. This study will not only be useful to POTWs, but will also be useful to all stakeholders involved in managing nutrients at the watershed level.

The full study is designed with multiple phases over the course of four to five years, allowing for interactions with stakeholders and experts in each phase. The first phase of the study is a screener questionnaire, which is the focus of this ICR. The goal of this first phase is to identify and characterize the full population of POTWs in the U.S. that discharge to a water of the U.S. This information will be used to help establish a baseline of nutrient performance at the national level for all POTWs. The second phase of the study will collect data from a subset of POTWs designed for secondary treatment, yet accomplishing significant nutrient removals. The study will document the capability of different types of POTWs to reduce nutrient discharges by implementing changes to operations and maintenance, but without retrofitting to biological nutrient removal (BNR), making chemical additions, or committing to extensive capital investments.

EPA is limiting the information requested by this census to that which is necessary to create a complete population of POTWs and to identify basic information about that population. Questions include those necessary to identify and stratify the universe of POTWs and, within that population, the secondary treatment POTWs not designed specifically to remove nitrogen and phosphorus.

Respondents/affected entities: Approximately 17,000 POTWs that meet the definition under 40 CFR 403.3(q), as well as up to 100 state and/or small municipal association contacts and 47 state and/or territory requests for POTW population data.

Estimated total number of respondents: 13,600 POTWs, 40 POTWs for site visits, 100 state or small municipal association contacts, and 47 states/territories for POTW population data.

Frequency of response: One-time data collection.

Estimated total respondent burden hours: 46,925.

Estimated total respondent costs: $1,606,960. This estimate reflects unit costs for labor.

Change in the estimates: This is a new collection and thus represents a one-time increase to the Agency's overall burden.

Courtney Kerwin,
Director, Regulatory Support Division.

[FR Doc. 2017-28104 Filed 12-28-17; 8:45 am]

BILLING CODE 6560-50-P